ENVIRONMENTAL PROTECTION AGENCY

40 CFR Part 52

[EPA-R05-OAR-2011-0328; FRL-9792-8]

Approval and Promulgation of Air Quality Implementation Plans; Minnesota; Flint Hills Resources Pine Bend

AGENCY: Environmental Protection Agency (EPA).

ACTION: Withdrawal of direct final rule.

SUMMARY: Due to the receipt of an adverse comment, EPA is withdrawing the January 31, 2013, direct final rule approving a revision to the Minnesota State Implementation Plan (SIP). EPA will address the comment in a subsequent final action based upon the proposed rulemaking action, also published on January 31, 2013. EPA will not institute a second comment period on this action.

DATES: The direct final rule published at 78 FR 6733 on January 31, 2013, is withdrawn as of March 26, 2013.

FOR FURTHER INFORMATION CONTACT: Mary Portanova, Environmental Engineer, Control Strategies Section, Air Programs Branch (AR-18J), Environmental Protection Agency, Region 5, 77 West Jackson Boulevard, Chicago, Illinois 60604, (312) 353-5954, portanova.mary@epa.gov.

SUPPLEMENTARY INFORMATION: EPA is withdrawing the January 31, 2013 (78 FR 6733), direct final rule approving a revision to the the Minnesota sulfur dioxide SIP for Flint Hills Resources Pine Bend, LLC, in Dakota County. In the direct final rule, EPA stated that if adverse comments were received by March 4, 2013, the rule would be withdrawn and not take effect. On February 5, 2013, EPA received a comment, which it interprets as adverse and, therefore, EPA is withdrawing the direct final rule. EPA will address the comment in a subsequent final action based upon the proposed rulemaking action, also published on January 31, 2013 (78 FR 6783). EPA will not institute a second comment period on this action.

List of Subjects in 40 CFR Part 52

Environmental protection, Air pollution control, Incorporation by reference, Intergovernmental relations, Sulfur oxides.

Authority: 42 U.S.C. 7401 et seq.

Dated: March 13, 2013.
Susan Hedman,
Regional Administrator, Region 5.

PART 52—[AMENDED]

Accordingly, the amendment to 40 CFR 52.1220 published in the Federal Register on January 31, 2013 (78 FR 6733) on pages 6735-6736 is withdrawn as of March 26, 2013.

[FR Doc. 2013-06652 Filed 3-25-13; 8:45 am]

BILLING CODE 6560-50-P